DEPARTMENT OF AGRICULTURE

Rural Utilities Service

7 CFR Part 1786

Prepayment of RUS Guaranteed and Insured Loans to Electric and Telephone Borrowers

CFR Correction

In Title 7 of the Code of Federal Regulations, Parts 1600 to 1899, revised as of Jan. 1, 2001, § 1786.31 is corrected by removing the second paragraph (c) on page 1018.

[FR Doc. 01-55509 Filed 3-20-01; 8:45 am]

BILLING CODE 1505-01-D